FEDERAL COMMUNICATIONS COMMISSION

47 CFR Part 22

Public Mobile Services

CFR Correction

In title 47 of the Code of Federal Regulations, part 22, revised as of Oct. 1, 2007, on page 78, in § 22.709, paragraph (b)(3) is reinstated to read as follows:

§ 22.709 Rural radiotelephone service application requirements.

* * * * *

(b)* * *

* * * * *

(3) The center frequency of each channel requested, the maximum effective radiated power, the effective radiated power in each of the cardinal radial directions, any non-standard emission types to be used, including bandwidth and modulation type, the transmitter classification (e.g. central office), and the locations and call signs, if any, of any fixed points of communication.

* * * * *

[FR Doc. E8-22599 Filed 9-24-08; 8:45 am]

BILLING CODE 1505-01-D